ENVIRONMENTAL PROTECTION AGENCY

40 CFR Part 141

[FRL-9994-44-OW]

Notification of a Public Meeting and Webinar: Development of the Fifth Proposed Unregulated Contaminant Monitoring Rule (UCMR 5) for Public Water Systems

AGENCY: Environmental Protection Agency (EPA).

ACTION: Announcement of a public meeting and webinar.

SUMMARY: The U.S. Environmental Protection Agency (EPA or Agency) Office of Ground Water and Drinking Water, Standards and Risk Management Division's Technical Support Center announces a public meeting and webinar to discuss potential approaches to developing the proposal for the fifth Unregulated Contaminant Monitoring Rule (UCMR 5) for public drinking water systems. The EPA will discuss issues related to UCMR 5, including: The impacts of the America's Water Infrastructure Act of 2018; analytical methods and analytes the Agency is considering, including per- and polyfluoroalkyl substances (PFAS); sampling design; minimum reporting levels; and other possible requirements.

DATES: The EPA will hold the public meeting and webinar on July 16, 2019, from 9 a.m. to 5 p.m. (local time) in Cincinnati, Ohio. Persons wishing to attend the meeting in-person or online via the webinar must register in advance no later than July 11, 2019, as described in the SUPPLEMENTARY INFORMATION section of this document.

ADDRESSES: The public meeting will be held at the U.S. Environmental Protection Agency, 26 West Martin Luther King Drive, Cincinnati, Ohio 45268. Information about attending the meeting in-person can be found in the SUPPLEMENTARY INFORMATION section (of this document).

FOR FURTHER INFORMATION CONTACT: Members of the public who wish to receive further information about the meeting and webinar or have questions about this document should contact Brenda Bowden or Melissa Simic, Technical Support Center, Standards and Risk Management Division, Office of Ground Water and Drinking Water (MS 140), U.S. Environmental Protection Agency, 26 West Martin Luther King Drive, Cincinnati, Ohio 45268; telephone numbers: (513) 569-7961 or (513) 569-7864; email addresses: bowden.brenda@epa.gov or simic.melissa@epa.gov. Information about registration and participation in the meeting and webinar can be found in the SUPPLEMENTARY INFORMATION section (of this document) and on the EPA's Unregulated Contaminant Monitoring Program Meetings and Materials website at: https://www.epa.gov/dwucmr/unregulated-contaminant-monitoring-rule-ucmr-meetings-and-materials.

SUPPLEMENTARY INFORMATION:

I. General Information

A. How may I participate in this meeting?

Persons wishing to attend the meeting in-person or online via the webinar must register in advance no later than July 11, 2019, by going to: https://www.eventbrite.com/e/public-meeting-and-webinar-development-of-the-proposed-unregulated-contaminant-monitoring-rule-ucmr-tickets-60889170147. The agenda for the public meeting and webinar will include time for public statements. To ensure adequate time for public statements, individuals or organizations interested in providing input should mention their request when they register. All presentation materials should be emailed to UCMRWebinar@cadmusgroup.com no later than July 11, 2019, so that the information can be incorporated into the webinar. We ask that only one person present the statement on behalf of a group or organization and that the statement be limited to ten minutes. Additional statements from attendees will be taken if time permits or can be sent to UCMRWebinar@cadmusgroup.com after the public meeting and webinar. The number of seats and webinar connections available for the meeting is limited and will be available on a first-come, first-served basis.

Because this meeting is being held at a U.S. Government facility, individuals planning to attend the meeting in-person should be prepared to show valid photo identification to the security staff in order to gain access to the meeting room. Please note that the REAL ID Act, passed by Congress in 2005, established new requirements for entering federal facilities. For purposes of the REAL ID Act, the EPA will accept government-issued IDs, including driver's licenses, from the District of Columbia and all States and Territories except from American Samoa. If your identification is issued by American Samoa, you must present an additional form of identification to enter the federal building where the public meeting will be held. Acceptable alternative forms of identification include: Federal employee badges, passports, enhanced driver's licenses, and military identification cards. For additional information on the status of your State regarding REAL ID, go to: https://www.dhs.gov/real-id-frequently-asked-questions. Any objects brought into the building need to fit through the security screening system, such as a purse, laptop bag, or small backpack. Demonstrations will not be allowed on federal property for security reasons. This meeting will be simultaneously broadcast as a webinar, available through the internet.

B. How can I get a copy of the meeting and webinar materials?

The meeting materials will be sent by email to the registered attendees prior to the public meeting and webinar; copies will also be provided for attendees at the meeting. Materials will be posted to the EPA's website at: (https://www.epa.gov/dwucmr/unregulated-contaminant-monitoring-rule-ucmr-meetings-and-materials) following the meeting.

C. Special Accommodations

Individuals with disabilities who wish to attend the meeting in-person can request special accommodations by contacting UCMRWebinar@cadmusgroup.com no later than July 11, 2019.

II. Background

The Safe Drinking Water Act requires the EPA to promulgate rules requiring monitoring of drinking water supplied by public water systems and establishing criteria every five years for a monitoring program for unregulated contaminants in drinking water. The EPA published the fourth Unregulated Contaminant Monitoring Rule (UCMR 4) on December 20, 2016 (81 FR 92666). The EPA plans to propose the fifth rule, UCMR 5, which is the subject of this meeting, in 2020 and publish the final rule by December 2021. In the EPA's Per- and Polyfluoroalkyl Substances (PFAS) Action Plan, published in February 2019, the Agency stated the EPA's intention to propose monitoring for PFAS in UCMR 5, utilizing newer methods at lower minimum reporting levels than previously possible.

UCMR monitoring varies based on system size, source water, and contaminants likely to be found. Under current EPA regulations, all systems serving more than 10,000 people must monitor for specified unregulated contaminants, while only a representative sample of systems serving 10,000 or fewer persons must monitor (40 CFR part 141, subpart E). Section 1445 of the Safe Drinking Water Act was recently amended by Public Law 115-270, America's Water Infrastructure Act of 2018 (AWIA), and now specifies that, subject to the availability of appropriations for such purpose and appropriate laboratory capacity, the EPA must require all systems serving between 3,300 and 10,000 persons to monitor and ensure that only a representative sample of systems serving fewer than 3,300 persons are required to monitor.

Dated: May 17, 2019.
Jennifer L. McLain,
Acting Director, Office of Ground Water and Drinking Water.

[FR Doc. 2019-11168 Filed 5-29-19; 8:45 am]

BILLING CODE 6560-50-P